NUCLEAR REGULATORY COMMISSION

[Docket No. NRC-2010-0214]

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on June 30, 2010.

1. Type of submission, new, revision, or extension: Extension.

2. The title of the information collection: 10 CFR Part 34, “Licenses for Radiography and Radiation Safety Requirements for Radiographic Operations.”

3. Current OMB approval number: 3150-0007.

4. The form number if applicable: N/A.

5. How often the collection is required: Applications for new licenses and amendments may be submitted at any time. Applications for renewal are submitted every 10 years. Reports are submitted as events occur.

6. Who will be required or asked to report: Applicants for and holders of specific licenses authorizing the use of licensed radioactive material for radiography.

7. An estimate of the number of annual responses: 1,116 (371 reporting responses plus 745 recordkeepers).

8. The estimated number of annual respondents: 745 (647 Agreement State licensees plus 98 NRC licensees).

9. An estimate of the total number of hours needed annually to complete the requirement or request: 284,868 hours (503 reporting + 284,365 recordkeeping). The NRC licensees' total burden is 37,681 hours (69 reporting plus 37,612 recordkeeping). The Agreement State licensees' total burden is 247,187 hours (434 reporting plus 246,753 recordkeeping).

10. Abstract: 10 CFR Part 34 establishes radiation safety requirements for the use of radioactive material in industrial radiography. The information in the applications, reports and records is used by the NRC staff to ensure that the health and safety of the public is protected and that licensee possession and use of source and byproduct material is in compliance with license and regulatory requirements.

A copy of the final supporting statement may be viewed free of charge at the NRC Public Document Room, One White Flint North, 11555 Rockville Pike, Room O-1 F21, Rockville, Maryland 20852. OMB clearance requests are available at the NRC worldwide Web site: http://www.nrc.gov/public-involve/doc-comment/omb/index.html. The document will be available on the NRC home page site for 60 days after the signature date of this notice. Comments and questions should be directed to the OMB reviewer listed below by October 29, 2010. Comments received after this date will be considered if it is practical to do so, but assurance of consideration cannot be given to comments received after this date.

Christine J. Kymn, Desk Officer, Office of Information and Regulatory Affairs (3150-0007), NEOB-10202, Office of Management and Budget, Washington, DC 20503.

Comments can also be e-mailed to Christine.J.Kymn@omb.eop.gov or submitted by telephone at (202) 395-4638.

The NRC Clearance Officer is Tremaine Donnell, (301) 415-6258.

Dated at Rockville, Maryland, this 20th day of September, 2010.
For the Nuclear Regulatory Commission.
Tremaine Donnell,
NRC Clearance Officer, Office of Information Services.

[FR Doc. 2010-24395 Filed 9-28-10; 8:45 am]

BILLING CODE 7590-01-P